DEPARTMENT OF THE TREASURY

Internal Revenue Service

26 CFR Parts 1, 54, and 301

RIN 1545-BQ98

DEPARTMENT OF LABOR

Employee Benefits Security Administration

29 CFR Parts 2510, 2520, and 2550

RIN 1210-AC09

PENSION BENEFIT GUARANTY CORPORATION

29 CFR Parts 4000, 4007, 4010, 4041, 4041A, 4043, 4050, 4062, 4063, 4204, 4211, 4219, 4231, 4245, 4262, and 4281

RIN 1212-AB58

Request for Information—SECURE 2.0 Section 319—Effectiveness of Reporting and Disclosure Requirements

AGENCY: Internal Revenue Service, U.S. Department of the Treasury. Employee Benefits Security Administration, U.S. Department of Labor. Pension Benefit Guaranty Corporation.

ACTION: Request for information; extension of comment period.

SUMMARY: This document extends the comment period for the request for information entitled “SECURE 2.0 Section 319—Effectiveness of Reporting and Disclosure Requirements” that was published in the January 23, 2024, issue of the Federal Register. The comment period for the request for information, which had been scheduled to close on April 22, 2024, is extended 30 days to May 22, 2024.

DATES: The comment period for the request for information published January 23, 2024, at 89 FR 4215, is extended. To be assured consideration, comments must be received at one of the addresses provided below no later than May 22, 2024.

ADDRESSES: Written comments, identified by RIN 1210-AC09, may be submitted to one of the addresses specified below. Any comment that is submitted will be shared with the Department of the Treasury, the Internal Revenue Service (IRS), and the Pension Benefit Guaranty Corporation (PBGC). Please do not submit duplicates.

• Federal eRulemaking Portal: www.regulations.gov. Follow the instructions for submitting comments.

• Mail: Please address to “Attention: Comment Extension; Request for Information—SECURE 2.0 Section 319—Effectiveness of Reporting and Disclosure Requirements.” Office of Regulations and Interpretations, Employee Benefits Security Administration, U.S. Department of Labor, Room N-5655, U.S. Department of Labor, 200 Constitution Avenue NW, Washington, DC 20210.

Instructions: Persons submitting comments electronically are encouraged not to submit paper copies. Comments will be available to the public, without charge, at www.regulations.gov, on the Department of Labor's website at www.dol.gov/agencies/ebsa/laws-and-regulations/rules-and-regulations/public-comments, and at the Public Disclosure Room, EBSA, U.S. Department of Labor, Suite N-1515, 200 Constitution Avenue NW, Washington, DC 20210. Comments may also be accessed from PBGC's website at www.pbgc.gov.

Warning: Do not include any personally identifiable or confidential business information that you do not want publicly disclosed. Comments are public records and can be retrieved by most internet search engines.

FOR FURTHER INFORMATION CONTACT: Kristen Zarenko, Office of Regulations and Interpretations, EBSA, Labor Department, (202) 693-8500. Jamie Dvoretzky, Office of Associate Chief Counsel (Employee Benefits, Exempt Organizations, and Employment Taxes (CC:EEE)), IRS, Treasury Department, at (202) 317-4102. David Simonetti, Legal Policy Division, Office of the General Counsel, PBGC, (202) 229-4362.

SUPPLEMENTARY INFORMATION: In the request for information (RFI), entitled “Request for Information—SECURE 2.0 Section 319—Effectiveness of Reporting and Disclosure Requirements,” released by the Department of Labor (Labor Department), Department of the Treasury (Treasury Department), and Pension Benefit Guaranty Corporation (PBGC) (collectively, the Agencies), the Agencies requested commenters' input in response to a series of 24 questions relevant to section 319 of the SECURE 2.0 Act of 2022 (SECURE 2.0).¹ Specifically, SECURE 2.0 section 319 includes a wide-ranging directive to the Agencies to review each Agency's existing reporting and disclosure requirements under the Internal Revenue Code (Code) and the Employee Retirement Income Security Act (ERISA) for retirement plans. The Agencies are directed to then report to Congress on the effectiveness of these reporting and disclosure requirements, including recommendations to consolidate, simplify, standardize, and improve such requirements. The comment period for the RFI is scheduled to close on April 22, 2024.

¹ The SECURE 2.0 Act of 2022, Division T of the Consolidated Appropriations Act, 2023, Public Law 117-328, 136 Stat. 4459 (2022).

Since the publication of the RFI in the Federal Register, interested parties have expressed concern with their ability to respond fully to the RFI by April 22, given the breadth of the topics and the significant number of questions raised in the RFI. These parties observe that significant work must be done to consider these topics adequately, including the collection and coordination of relevant data and information, research of the considerable laws, regulations, and other guidance implicated by the questions in the RFI, and preparation of meaningful responses to the Agencies' questions. The Agencies value robust public feedback as part of their mandated review of the effectiveness of Code and ERISA reporting and disclosure requirements. This feedback will be an integral resource for the Agencies in preparing the report to Congress, no later than December 29, 2025, as required by section 319 of SECURE 2.0. In response to these requests, the Agencies are extending the period for submitting comments on the RFI by an additional 30 days. To be assured consideration, comments on the RFI must be received no later than May 22, 2024.

Signed at Washington, DC.
Rachel D. Levy,
Associate Chief Counsel (Employee Benefits, Exempt Organizations, and Employment Taxes), Internal Revenue Service, Department of the Treasury.
Helen H. Morrison,
Benefits Tax Counsel, Department of the Treasury.
Lisa M. Gomez,
Assistant Secretary, Employee Benefits Security Administration, Department of Labor.
Gordon Hartogensis,
Director, Pension Benefit Guaranty Corporation.

[FR Doc. 2024-07018 Filed 4-2-24; 8:45 am]

BILLING CODE 4510-29-P; 4830-01-P; 7709-02-P